DEPARTMENT OF DEFENSE

Department of the Army; Corps of Engineers

Intent To Prepare a Joint Environmental Impact Statement/Environmental Impact Report for the Ventura Harbor Sand Bypass System and Regional Beneficial Reuse Feasibility Study, Ventura, CA

AGENCY: U.S. Army Corps of Engineers (Corps), DoD.

ACTION: Notice of intent.

SUMMARY: The Corps and the Ventura Port District propose to evaluate a sand bypassing system and other measures to improve maintenance of Federal harbors in the Ventura/Santa Barbara County area for more efficient operations and beneficial uses of the dredged material for storm damage protection and environmental restoration and enhancement.

FOR FURTHER INFORMATION CONTACT: Questions regarding the scoping process or preparation of the EIS/EIR may be directed to Mr. Paul Rose, Chief, Environmental Resources Branch, U.S. Army Corps of Engineers, P.O. Box 532711, Los Angeles, California, 90053-2325, (213) 452-3840.

SUPPLEMENTARY INFORMATION:

1. Proposed Action

For the Sand Bypassing component of the study, the purpose of the report shall focus on the alternatives for the sand bypassing system needed for accommodating the annual required dredge volume.

For the Regional Beneficial Use component, the purpose is to provide beneficial uses of the material for the Ventura County region for a proposed sand bypassing system at Ventura Harbor, California. The report shall be based on the Ventura Harbor Sand Bypass Regional Beneficial Uses Reconnaissance Report (Los Angeles District, 1997), to modify the existing federal navigation project for the purpose of providing regional uses of the dredged material for storm damage protection, environmental restoration and enhancement, and other beneficial uses.

Ventura Harbor is a small craft commercial and recreational harbor located approximately one hundred (100) kilometers northwest of the City of Los Angeles. The Los Angeles District currently maintains navigable channels by dredging an entrance channel and several sand traps outside of the harbor. The two (2) primary sand traps have a total capacity of approximately 640,000 m³ and are located at the seaward end of the entrance channel and adjacent to the upcoast side of the North Jetty. Presently the Los Angeles District maintenance project is designed to dredge every two (2) years at an estimated dredge quantity of 615,000 m³ per episode. Due to annual budgetary constraints, the Los Angeles District, in practice, maintains the entrance channel and sand traps on a yearly basis, removing on the average approximately 535,000 m³ of sand per dredging episode. Fiscal year 2000 dredging resulted in the removal of approximately 140,000 m³ from the navigation channel and channel trap, and approximately 320,000 m³ from sand trap adjacent to the North Jetty. The dredged sands have historically been placed directly onto McGrath State Beach, in the nearshore environment adjacent to McGrath State Beach, directly onto South Beach, or, on a few occasions, onto the upcoast groin field cell.

2. Alternatives

Alternatives that may be considered include selection of various disposal sites as well as various sites and dredging methodologies for the dredging side of the bypass system, continued use of periodic dredging with beach/nearshore disposal, and no-project.

3. Scoping Process

The Corps and the Ventura Port District are preparing a joint Environmental Impact Statement/Environmental Impact Report (EIS/EIR) to address potential impacts associated with the proposed project. The Corps is the Lead Federal Agency for compliance with NEPA for the project, and the Ventura Port District is the Lead State Agency for compliance with the CEQA for the non-Federal aspects of the project. The Draft EIS/EIR (DEIS/EIR) document will incorporate public concerns in the analysis of impacts associated with the Proposed Action and associated project alternatives. The DEIS/EIR will be sent out for a 45-day public review period, during which time both written and verbal comments will be solicited on the adequacy of the document. The Final EIS/EIR (FEIS/EIR) will address the comments received on the DEIS/EIR during public review, and will be furnished to all who commented on the DEIS/EIR, and is made available to anyone that requests a copy during the 30-day public comment period. The final step involves, for the federal EIS, preparing a Record of Decision (ROD) and, for the state EIR, certifying the EIR and adopting a Mitigation Monitoring and Reporting Plan. The ROD is a concise summary of the decisions made by the Corps from among the alternatives presented in the FEIS/EIR. The ROD can be published immediately after the FEIS public comment period ends. A certified EIR indicates that the environmental document adequately assesses the environmental impacts of the proposed project with respect to CEQA. A formal scoping meeting to solicit public comment and concerns on the proposed action and alternatives will be held on January 8, 2002, at 6:00 P.M., in the Channel Islands National Park Visitor Center, 1901 Spinnaker Drive, Ventura, California.

Luz D. Ortiz,
Army Federal Register Liaison Officer.

[FR Doc. 02-770 Filed 1-10-02; 8:45 am]

BILLING CODE 3710-KF-M